DEPARTMENT OF AGRICULTURE

Rural Utilities Service

South Mississippi Electric Power Association: Notice of Availability of an Environmental Assessment

AGENCY: Rural Utilities Service, USDA.

ACTION: Notice of availability of an Environmental Assessment for public review.

SUMMARY: The Rural Utilities Service, an agency which administers the U.S. Department of Agriculture's Rural Development Utilities Programs (USDA Rural Development) has prepared an Environmental Assessment (EA) related to possible financial assistance to South Mississippi Electric Power Association (SMEPA) for the proposed construction of one approximately 5.76 acre 230:161:69 kV substation, two approximately 0.1 mile 230 kilovolt (kV) electric transmission lines, one 0.4 mile 69 kV electric transmission line, and one microwave tower on an approximate fourteen (14) acre parcel in Greene County, Mississippi. SMEPA is requesting the USDA Rural Development to provide financial assistance for the proposed project.

DATES: Written comments on this Notice must be received on or before December 28, 2006.

ADDRESSES: The EA will be available for public review at USDA Rural Development, Utilities Programs, 1400 Independence Avenue, SW., Washington, DC 20250-1571; at the USDA Rural Development's Web site— http://www.usda.gov/rus/water/ees/ea.htm; at SMEPA's headquarters office located at 7037 U.S. Highway 49, Hattiesburg, MS; at Singing River EPA's Greene County Office, 39276 Highway 63 North, Richton, Mississippi, 39476; and at the following Greene County Public Library location: Leakesville Library, 301B Lafayette, Leakesville, MS 39451.

Written comments should be sent to: Ms. Stephanie Strength, Environmental Protection Specialist, USDA, Rural Development, Utilities Programs, Engineering and Environmental Staff, 1400 Independence Avenue, SW., Room 2244, Stop 1571, Washington, DC 20250-1571, or e-mail: stephanie.strength@wdc.usda.gov.

FOR FURTHER INFORMATION CONTACT: Stephanie Strength, Environmental Protection Specialist, USDA, Rural Development, Utilities Programs, Engineering and Environmental Staff, 1400 Independence Avenue, SW., Room 2244, Stop 1571, Washington, DC 20250-1571, Telephone: (202) 720-0468. Ms. Strength's e-mail address is stephanie.strength@wdc.usda.gov.

SUPPLEMENTARY INFORMATION: The proposed project area is located in southeast Greene County, Mississippi. The proposed project will consist of one (1) 5.76 acre 230:161:69 kV substation, two (2) one-tenth (0.1) mile 230 kV transmission lines, one (1) four-tenths (0.4) mile 69 kV transmission line, and one microwave tower. The transmission lines and microwave tower will occupy the remainder of the approximate fourteen (14) acre site. The site is located approximately nine and one-half (9.5) miles south of Leakesville, Mississippi.

Alternatives considered by the USDA Rural Development and SMEPA included: (1) No action, (b) alternate transmission line routes, and (c) other electrical alternatives. An Environmental Report (ER) that describes the proposed project in detail and discusses its anticipated environmental impacts has been prepared by SMEPA. The USDA Rural Development has accepted the ER as its EA of the proposed project. The EA is available for public review at addresses provided above in this Notice.

Questions and comments should be sent to Ms. Stephanie Strength, USDA Rural Development at the mailing or e-mail addresses provided above in this Notice. The USDA Rural Development should receive comments on the EA in writing by December 28, 2006, to ensure that they are considered in its environmental impact determination.

Should the USDA Rural Development determine, based on the EA of the proposed project, that the impacts of the construction and operation of the project would not have a significant environmental impact, it will prepare a Finding of No Significant Impact. Public notification of a Finding of No Significant Impact would be published in the Federal Register and in newspapers with circulation in the project area.

Any final action by the USDA Rural Development related to the proposed project will be subject to, and contingent upon, compliance with all relevant Federal, state and local environmental laws and regulations, and completion of the environmental review requirements as prescribed in the USDA Rural Development's Environmental Policies and Procedures (7 CFR part 1794).

Dated: November 17, 2006.
Mark S. Plank,
Director, Engineering and Environmental Staff, USDA/Rural Development/Utilities Programs.

[FR Doc. 06-9412 Filed 11-27-06; 8:45 am]

BILLING CODE 3410-15-M